FEDERAL COMMUNICATIONS COMMISSION

47 CFR Part 52

[WC Docket Nos. 13-97, 04-36, 07-243, 10-90 and CC Docket No. 95-116, 01-92, and 99-200; FCC 15-70]

Numbering Policies for Modern Communications, IP-Enabled Services, Telephone Number Requirements for IP-Enabled, Services Providers, Telephone Number Portability et al.

AGENCY: Federal Communications Commission.

ACTION: Final rule; announcement of effective date.

SUMMARY: In this document, the Commission announces that the Office of Management and Budget (OMB) has approved, for a period of three years, the information collection associated with the Commission's Report and Order establishing rules for an authorization process to enable interconnected VoIP providers that choose direct access to request numbers directly from the Numbering Administrators. This document is consistent with the Report and Order, which stated that the Commission would publish a document in the Federal Register announcing OMB approval and the effective date of those rules.

DATES: The amendments to 47 CFR 52.15(g)(2) and (g)(3) published at 80 FR 66454, October 29, 2015, are effective February 4, 2016.

FOR FURTHER INFORMATION CONTACT: Marilyn Jones, Competition Policy Division, Wireline Competition Bureau, at (202) 418-1580, or email: marilyn.jones@fcc.gov.

SUPPLEMENTARY INFORMATION: This document announces that, on January 5, 2016, OMB approved the information collection requirements contained in the Commission's Report and Order, FCC 15-70, published at 80 FR 66454, October 29, 2015. The OMB Control Number is 3060-1214. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1214, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 5, 2016, for the information collection requirements contained in the modifications to the Commission's rules in 47 CFR 52.15(g)(2)-(g)(3).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1214.

The foregoing notice is required by the Paperwork Reduction Act of 1995, Public Law 104-13, October 1, 1995, and 44 U.S.C. 3507.

The total annual reporting burdens and costs for the respondents are as follows:

OMB Control Number: 3060-1214.

OMB Approval Date: January 5, 2016.

OMB Expiration Date: January 31, 2019.

Title: Direct Access to Numbers Orders, FCC 15-70 Conditions.

Form Number: N/A.

Respondents: Business or other for-profit entities.

Number of Respondents and Responses: 13 respondents; 13 responses.

Estimated Time per Response: 120 hours.

Frequency of Response: One-time, biennial and on-going reporting requirements.

Obligation to Respond: Voluntary. The statutory authority for this information collection is contained in 47 U.S.C. 251(e)(1).

Total Annual Burden: 1,560 hours.

Total Annual Cost: No cost.

Nature and Extent of Confidentiality: If respondents submit information which respondents believe is confidential, respondents may request confidential treatment of such information pursuant to section 0.459 of the Communication's rules, 47 CFR 0.459.

Privacy Act: No impact(s).

Needs and Uses: June 18, 2015, the Commission adopted a Report and Order establishing the Numbering Authorization Application process, which allows interconnected VoIP providers to apply for a blanket authorization from the FCC that, once granted, will allow them to demonstrate that they have the authority to provide service in specific areas, thus enabling them to request numbers directly from the Numbering Administrators. This collection covers the information and certifications that applicants must submit in order to comply with the Numbering Authorization Application process. The data, information, and documents acquired through this collection will allow interconnected VoIP providers to obtain numbers with minimal burden or delay while also preventing providers from obtaining numbers without first demonstrating that they can deploy and properly utilize such resources. This information will also help the Federal Communications Commission (FCC) protect against number exhaust while promoting competitive neutrality among traditional telecommunications carriers and interconnected VoIP providers by allowing both entities to obtain numbers directly from the Numbering Administrators. It will further help the FCC to maintain efficient utilization of numbering resources and ensure that telephone numbers are not being stranded.

Federal Communications Commission.
Marlene H. Dortch,
Secretary.

[FR Doc. 2016-02013 Filed 2-3-16; 8:45 am]

BILLING CODE 6712-01-P